FEDERAL COMMUNICATIONS COMMISSION

[PS Docket No. 15-94; DA 16-721]

Public Safety and Homeland Security Bureau Launches EAS Test Reporting System (ETRS) and Seeks Comment on EAS Operating Handbook Recommendations

AGENCY: Federal Communications Commission.

ACTION: Notice.

SUMMARY: This document provides notice to all Emergency Alert System (EAS) Participants that the EAS Test Reporting System (ETRS) is operational and is ready to accept filings. Initial instructions are also provided on how EAS Participants are to begin the ETRS filing process. This document also seeks comment on the recommendations adopted by the Communications Security, Reliability, and Interoperability Council (CSRIC) on June 22, 2016, for updating the EAS Operating Handbook (Handbook). Comments will support future FCC guidance regarding Handbook use.

DATES: Comments are due on or before July 20, 2016.

ADDRESSES: You may submit comments, identified by PS Docket No. 15-94, by any of the following methods:

• Federal eRulemaking Portal: http://www.regulations.gov. Follow the instructions for submitting comments.

• Federal Communications Commission's Web site: http://fjallfoss.fcc.gov/ecfs2/. Follow the instructions for submitting comments.

• Paper Filers: Parties that choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission. All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th St. SW., Washington, DC 20554.

• People with Disabilities: Contact the FCC to request reasonable accommodations (accessible format documents, sign language interpreters, CART, etc.) by email: FCC504@fcc.gov or phone: 202-418-0530 or TTY: 202-418-0432. For detailed instructions for submitting comments, see the SUPPLEMENTARY INFORMATION section of this document.

FOR FURTHER INFORMATION CONTACT: Austin Randazzo, Attorney Advisor, Public Safety and Homeland Security Bureau, at (202) 418-1462, or by email at Austin.Randazzo@fcc.gov.

SUPPLEMENTARY INFORMATION: This is a summary of the Commission's Public Notice in PS Docket No. 15-94, released on June 27, 2016. The document is available for download at https://apps.fcc.gov/edocs_public/attachmatch/DA-16-721A1.pdf. The complete text of the document is also available for inspection and copying during normal business hours in the FCC Reference Information Center, Portals II, 445 12th Street SW., Room CY-A257, Washington, DC 20554. To request materials in accessible formats for people with disabilities (Braille, large print, electronic files, audio format), send an email to FCC504@fcc.gov or call the Consumer & Governmental Affairs Bureau at 202-418-0530 (voice), 202-418-0432 (TTY).

The proceeding initiated by Part III of the document shall be treated as a “permit-but-disclose” proceeding in accordance with the Commission's ex parte rules. To the extent any other aspect of the Public Notice involves a proceeding or a presentation under the Commission's ex parte rules, it is exempt from the application of those rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum.

Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
David Furth,
Deputy Chief, Public Safety and Homeland Security Bureau.

[FR Doc. 2016-15849 Filed 6-30-16; 8:45 am]

BILLING CODE 6712-01-P